ENVIRONMENTAL PROTECTION AGENCY

40 CFR Part 52

[R05-OAR-2004-MI-0004; FRL-7915-8]

Approval and Promulgation of Maintenance Plans; Michigan; Southeast Michigan Ozone Maintenance Plan Update to the State Implementation Plan

AGENCY: Environmental Protection Agency (EPA).

ACTION: Direct final rule.

SUMMARY: EPA is approving a December 19, 2003, request from Michigan to revise the ground level ozone State Implementation Plan (SIP) for the Southeast Michigan area. EPA originally approved the Southeast Michigan ozone maintenance plan on April 6, 1995. This action approves an update to the plan prepared by Michigan to maintain the 1-hour national ambient air quality standard (NAAQS) for ozone in the Southeast Michigan maintenance area through the year 2015. This update is required by the Clean Air Act (CAA).

DATES: This “direct final” rule is effective July 19, 2005, unless EPA receives written adverse comment by June 20, 2005. If written adverse comment is received, EPA will publish a timely withdrawal of the direct final rule in the Federal Register and inform the public that the rule will not take effect.

ADDRESSES: Submit comments, identified by Regional Material in EDocket (RME) ID No. R05-OAR-2004-MI-0004, by one of the following methods:

Federal eRulemaking Portal: http://www.regulations.gov. Follow the on-line instructions for submitting comments.

Agency Web site: http://docket.epa.gov/rmepub/. RME, EPA's electronic public docket and comments system, is EPA's preferred method for receiving comments. Once in the system, select “quick search,” then key in the appropriate RME Docket identification number. Follow the online instructions for submitting comments.

E-mail: mooney.john@epa.gov.

Fax: (312) 886-5824.

Mail: You may send written comments to: John M. Mooney, Chief, Criteria Pollutant Section (AR-18J), U.S. Environmental Protection Agency, 77 West Jackson Boulevard, Chicago, Illinois 60604.

Hand delivery: Deliver your comments to: John M. Mooney, Chief, Criteria Pollutant Section (AR-18J), U.S. Environmental Protection Agency, Region 5, 77 West Jackson Boulevard, 18th floor, Chicago, Illinois 60604.

Such deliveries are only accepted during the Regional Office's normal hours of operation. The Regional Office's official hours of business are Monday through Friday, 8:30 a.m. to 4:30 p.m. excluding Federal holidays.

Instructions: Direct your comments to RME ID No. R05-OAR-2004-MI-0004. EPA's policy is that all comments received will be included in the public docket without change, including any personal information provided, unless the comment includes information claimed to be Confidential Business Information (CBI) or other information whose disclosure is restricted by statute. Do not submit information that you consider to be CBI or otherwise protected through RME, regulations.gov, or e-mail. The EPA RME website and the federal regulations.gov website are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of the related proposed rule which is published in the Proposed Rules section of this Federal Register.

Docket: All documents in the electronic docket are listed in the RME index at http://docket.epa.gov/rmepub/. Although listed in the index, some information is not publicly available, i.e., CBI or other information whose disclosure is restricted by statute. Publicly available docket materials are available either electronically in RME or in hard copy at Environmental Protection Agency, Region 5, Air and Radiation Division, 77 West Jackson Boulevard, Chicago, Illinois 60604. (We recommend that you telephone Anthony Maietta, Life Scientist, at (312) 353-8777 before visiting the Region 5 office.) This Facility is open from 8:30 AM to 4:30 PM, Monday through Friday, excluding legal holidays.

FOR FURTHER INFORMATION CONTACT: Anthony Maietta, Life Scientist, Criteria Pollutant Section (AR-18J), Air Programs Branch, Air and Radiation Division, United States Environmental Protection Agency, Region 5, 77 West Jackson Boulevard, Chicago, Illinois 60604, (312) 353-8777, maietta.anthony@epa.gov.

SUPPLEMENTARY INFORMATION: Throughout this document, “we,” “us,” or “our” means EPA. This section provides additional information by providing General Information and addressing pertinent questions that follow:

General Information

Does this action apply to me?

How can I get copies of this document and other related information?

How and to whom do I submit my comments?

What is a SIP?

What is the federal approval process for a SIP?

What are the criteria for approval of a maintenance plan?

What does federal approval of a state regulation mean to me?

Have the requirements for approval of a SIP revision been met?

Did Michigan hold a public hearing?

What is in the State's plan to maintain the standard?

What action is EPA taking?

Statutory and executive order review.

General Information

Does This Action Apply to Me?

This action is non-regulatory in nature. It updates an earlier plan which is intended to maintain the 1-hour ozone NAAQS in Southeast Michigan.

How Can I Get Copies of This Document and Other Related Information?

1. The Regional Office has established an electronic public rulemaking file available for inspection at RME under RME ID No. R05-OAR-2004-MI-0004, and a hard copy file which is available for inspection at the Regional Office. The official public file consists of the documents specifically referenced in this action, any public comments received, and other information related to this action. Although a part of the official docket, the public rulemaking file does not include CBI or other information whose disclosure is restricted by statute. The official public rulemaking file is the collection of materials that is available for public viewing at the Air Programs Branch, Air and Radiation Division, EPA Region 5, 77 West Jackson Boulevard, Chicago, Illinois 60604. EPA requests that if at all possible, you contact the person listed in the FOR FURTHER INFORMATION CONTACT section to schedule your inspection. The Regional Office's official hours of business are Monday through Friday, 8:30 a.m. to 4:30 p.m. excluding Federal holidays.

2. Electronic Access. You may access this Federal Register document electronically through the regulations.gov web site located at http://www.regulations.gov where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

How and to Whom Do I Submit My Comments?

You may submit comments electronically, by mail, or through hand delivery/courier. To ensure proper receipt by EPA, identify the appropriate rulemaking identification number by including the text “Public comment on proposed rulemaking Region 5 Air Docket “R05-OAR-2004-MI-0004” in the subject line on the first page of your comment. Please ensure that your comments are submitted within the specified comment period. Comments received after the close of the comment period will be marked “late.” EPA is not required to consider these late comments.

For detailed instructions on submitting public comments and on what to consider as you prepare your comments see the ADDRESSES section and the section I General Information of the SUPPLEMENTARY INFORMATION section of the related proposed rule which is published in the Proposed Rules section of this Federal Register.

What Is a SIP?

The CAA, at section 110, requires states to develop air pollution regulations, laws, and control strategies to ensure that state air quality meets the NAAQS established under section 109 of the CAA. EPA has established standards for six criteria pollutants: carbon monoxide, nitrogen dioxide, ozone, lead, particulate matter, and sulfur dioxide. Each state must submit regulations and control strategies to us for approval and incorporation into the federally-enforceable SIP. Each federally-approved SIP is designed to protect air quality primarily by addressing air pollution at its point of origin. These SIPs can be extensive, containing state regulations or other enforceable documents and supporting information such as emission inventories, monitoring networks, and modeling demonstrations.

What Is the Federal Approval Process for a SIP?

For state regulations to be incorporated into the federally-enforceable SIP, states must formally adopt the regulations and control strategies consistent with state and federal requirements. This process generally includes a public notice, public hearing, public comment period, and a formal adoption by a state-authorized rulemaking body. Once a state rule, regulation, or control strategy is adopted, the state submits it to us for approval into the SIP. We must provide public notice and seek additional public comment regarding the federal action on the state submission. If we receive adverse comments, we must address them prior to taking final federal action. All state regulations approved by EPA under section 110 of the CAA are incorporated into the federally-approved SIP. Records of such SIP actions are maintained in the Code of Federal Regulations (CFR) at 40 CFR part 52, entitled “Approval and Promulgation of Implementation Plans.” The actual state regulations which are approved are not reproduced in the CFR but are “incorporated by reference,” which means that we have approved a given state submission with a specific effective date.

What Are the Criteria for Approval of a Maintenance Plan?

Section 175A(b) of the CAA requires a state, eight years after redesignation of an area as attainment, to submit to EPA a revision to its SIP to maintain the NAAQS for ten years after the expiration of the initial ten year period as an attainment area. A maintenance plan must provide a demonstration of continued attainment of the applicable NAAQS, including the submission of control measures needed to maintain the standard. Further, the plan must provide contingency measures for the prompt correction of any violation of the standard, the continued operation of the ambient air quality monitoring network, a means of tracking the progress of the plan, inclusion of the attainment emissions inventory, and new emissions budgets for motor vehicle emissions.

What Does Federal Approval of a State Regulation Mean to Me?

Enforcement of the state regulation before and after it is incorporated into the federally-approved SIP is primarily a state responsibility. However, after the state regulation is federally approved, it becomes federally enforceable, or enforceable by EPA and by citizens pursuant to section 304 of the CAA.

Have the Requirements for Approval of a SIP Revision Been Met?

Yes, the State has met all the necessary requirements for approval of a SIP revision as stated in section 110(A) of the CAA.

Did Michigan Hold a Public Hearing?

Yes, a public hearing was held on September 9, 2003, at 1:00 p.m., in the Southeast Michigan Council of Governments offices located at 535 Griswold, Suite 300, in Detroit, Michigan. Four people attended the hearing, and one comment was received.

What Is in the State's Plan To Maintain the Standard?

The Southeast Michigan area has been designated as attainment for the 1-hour ozone NAAQS since April 1995 (60 FR 12459). The Southeast Michigan ozone maintenance area consists of Livingston, Macomb, Monroe, Oakland, St. Clair, Washtenaw, and Wayne Counties. The existing plan demonstrates maintenance of the 1-hour ozone standard through 2005. On December 19, 2003, Michigan submitted its plan to maintain the ozone standard in Southeast Michigan during the second ten-year period beginning in 2005 and ending in 2015. Note that this action is in reference to the State's plan under the 1-hour ozone standard and is independent of other requirements for 8-hour ozone nonattainment. The following analysis will look at the elements necessary for approval of a maintenance plan and determine if they have been fulfilled.

1. Demonstration of Continued Attainment

The primary requirement for maintenance plans is the demonstration that the relevant NAAQS will be maintained for a ten year period. To make this demonstration, states must establish an attainment level of emissions of volatile organic compounds (VOC) and oxides of nitrogen (NOX) to maintain the 1-hour ozone standard. The state must maintain this attainment level of emissions throughout the maintenance period via a combination of control measures. These measures may include stationary, area, and mobile source controls. Michigan has made such a demonstration, establishing the annual emissions from the entire area for the year 2000, a period when no excursions or violations of the standard occurred, and 2015, the last year of the maintenance plan. These levels are summarized in Tables 1 and 2 below.

Table 1.—Southeast Michigan VOC Emissions
[Tons per day]
Source category | 2000 | 2015 | Change
Point | 72.1 | 117.8 | 45.7
Area | 250.1 | 306.6 | 56.5
On-Road Mobile | 240.9 | 74.6 | −166.3
Non-Road Mobile | 113.2 | 79.0 | −34.2
Total | 676.3 | 578.0 | −98.3

Table 2.—Southeast Michigan NOX Emissions
[Tons per day]
Source category | 2000 | 2015 | Change 2000-2015
Point | 422.6 | 159.5 | −263.1
Area | 33.5 | 36.7 | 3.2
On-Road Mobile | 412.9 | 102.7 | −310.2
Non-Road Mobile | 116.3 | 107.1 | −9.2
Total | 985.3 | 406.0 | −579.3

The demonstration projects that the total VOC and NOX emissions will decrease significantly in the area through 2015. The State used methodologies to calculate these emissions which are consistent with EPA estimation techniques. Thus, the plan demonstrates that the 1-hour ozone standard will be maintained throughout the second ten-year segment of the maintenance plan, years 2005 through 2015. The full emissions benefits obtained from state and federal control measures are included in the table above. For the demonstration of maintenance, it is necessary to show only that there is no increase in the emissions over the intended time period. Not only does Michigan meet this test, it has also clearly identified excess emission reductions. Control measures used to reduce emissions and maintain the standard include stationary, mobile, and area source controls, including emission reductions from the Federal Motor Vehicle Control Program and from implementation of 7.8 pounds per square inch low-Reid Vapor Pressure (RVP) fuel requirements for Southeast Michigan.

2. Contingency Measures

Despite an area's best efforts to demonstrate continued compliance with the NAAQS, the area's ambient ozone concentrations may exceed or violate the NAAQS. The CAA makes allowances for this by establishing a requirement to submit contingency measures that can be implemented in response to violations of the NAAQS during the maintenance period. The Southeast Michigan area experienced a violation of the 1-hour ozone NAAQS in 2003. Therefore, as required by section 175(A) of the Act, Michigan has provided contingency measures to promptly correct this violation, as well as any future ozone air quality problems.

As a contingency measure for the years 2004 through 2006, Michigan has adopted rules to reduce NOX from major industrial sources. Michigan promulgated these rules in response to EPA's NOX SIP call, which EPA issued in 1998 to 22 states to address and reduce upwind sources of NOX emissions. The NOX SIP call has been implemented in Michigan since May 31, 2004. EPA believes that these rules will address the 2003 violation and any violations that may occur through 2006.

As a contingency measure for the years 2004 through 2009, Michigan has identified the Tier II vehicle standards. The Tier II vehicle standards, which will be phased in from 2004 through 2009, require all passenger vehicles, including sport utility vehicles (SUV's), minivans, vans, and pick-up trucks, to be 77 to 95 percent cleaner overall. For the heaviest light-duty vehicles, the Tier II program provides a three step phase-in of NOX emission limits through 2009. By 2009, all light-duty vehicles will be held to a 0.07 grams per mile limit for NOX emissions. EPA believes that this program will be effective in keeping the area within the NAAQS after 2006.

As a contingency measure for the years 2004 through 2012, Michigan has identified EPA's new combined emission standard for NOX, particulate matter, and hydrocarbons (HC) for heavy-duty diesel vehicles weighing over 8,500 pounds (“Heavy Duty Diesel Vehicle Standards”). The Heavy Duty Diesel Vehicle Standards will reduce pollution from new trucks and buses by 95 percent when compared to today's trucks and buses.

3. Ambient Air Quality Monitoring

Michigan currently operates 8 monitors in and around the Detroit area. The Michigan Department of Environmental Quality (MDEQ) has committed to continue operating and maintaining an approved ozone monitor network throughout the maintenance period and beyond.

4. Tracking the Progress of the Plan

Continued attainment of the ozone NAAQS in Southeast Michigan depends, in part, on the State's efforts toward tracking indicators of continued attainment during the maintenance period. The tracking plan for Southeast Michigan primarily consists of continued ambient ozone monitoring in accordance with the requirements of 40 CFR part 58. MDEQ maintains a comprehensive ambient air quality monitoring network and air quality reporting program, including ozone monitoring sites throughout the state. These are mandated by state statute to continue through and beyond the maintenance period. The state will also evaluate future VOC and NOX emissions inventories for increases over the 2000 base year levels. A violation of the one-hour ozone NAAQS (which must be confirmed by the State) will trigger contingency measures as described above in section 2 (“Contingency Measures”).

5. Emission Inventory and Motor Vehicle Emissions Budgets

Michigan prepared an emissions inventory for the Southeast Michigan maintenance area for the base year of 2000. Michigan selected the year 2000 for the inventory because no excursion or violations of the standard occurred in Southeast Michigan. The State then projected emissions to the years 2005, 2010, and 2015, and updated the emissions budgets for these years to reflect the State's adoption of low-RVP gasoline and also to reflect new planning assumptions, including updated vehicle registration data from the year 2000, vehicle miles traveled, speeds, fleet mix, and SIP control measures. The MOBILE6.2 emissions model was used for on-road mobile sources. The emission inventory values are shown in the Tables below.

Table 3.—Southeast Michigan VOC Emissions
[Tons per day]
Source type | 2000 | 2005 | 2010 | 2015
Point | 72.1 | 87.3 | 102.6 | 117.8
Area | 250.1 | 269.0 | 287.7 | 306.6
On-road mobile | 240.9 | 160.6 | 105.1 | 74.6
Off-road mobile | 113.2 | 101.9 | 90.4 | 79.0
Total | 676.3 | 618.8 | 585.8 | 578.0

Table 4.—Southeast Michigan NOX Emissions
[Tons per day]
Source type | 2000 | 2005 | 2010 | 2015
Point | 422.6 | 334.9 | 247.2 | 159.5
Area | 33.5 | 34.6 | 35.6 | 36.7
On-road mobile | 412.9 | 305.1 | 183.1 | 102.7
Off-road mobile | 116.3 | 113.2 | 110.2 | 107.1
Total | 985.3 | 787.8 | 576.1 | 406.0

Michigan has submitted an emissions inventory of VOC and NOX for the Southeast Michigan maintenance area. Based upon the updated emissions inventory, the revised maintenance plan contains new budgets (or limits) for motor vehicle emissions resulting from transportation plans for the Southeast Michigan maintenance area. We have reviewed the budgets and have found that the budgets meet all of the adequacy criteria in § 91.118 of the transportation conformity rule. These criteria include: (1) The SIP was endorsed by the Governor (or his designee) and was the subject of a state public hearing; (2) consultation among federal, state, and local agencies occurred; (3) the emissions budget is clearly identified and precisely quantified; (4) the motor vehicle emissions budget, when considered together with all other emissions, is consistent with attainment; and (5) the motor vehicle emissions budget is consistent with and clearly related to the emissions inventory and control strategy in the SIP.

The new area-wide budgets are shown in the Table below:

Table 5.—Southeast Michigan Mobile Vehicle Emissions Budgets
[Tons per day]
Year | VOC | NOX
2005 | 218.1 | 412.9
2015 | 172.8 | 412.9

These new budgets are to be used in all subsequent conformity determinations concerning transportation plans in the Southeast Michigan maintenance area. We believe that the motor vehicle emissions budgets are consistent with the control measures identified in this maintenance plan, and that this plan demonstrates maintenance with the 1-hour ozone standard.

What Action Is EPA Taking?

We are approving the Southeast Michigan ozone maintenance plan update and the transportation conformity budgets for the Southeast Michigan 1-hour ozone maintenance area into the Michigan SIP.

The EPA is publishing this action without prior proposal because we view this as a noncontroversial amendment and anticipate no adverse comments. However, in the proposed rules section of this Federal Register publication, we are publishing a separate document that will serve as the proposal to approve the state plan if relevant adverse comments are filed. This rule will be effective July 19, 2005, without further notice unless we receive relevant adverse written comments by June 20, 2005. If we receive such comments, we will withdraw this action before the effective date by publishing a subsequent document that will withdraw the final action. We will address all public comments received in a subsequent final rule based on the proposed action. The EPA will not institute a second comment period. Any parties interested in commenting on this action should do so at this time. If we do not receive any comments, this action will be effective July 19, 2005.

Statutory and Executive Order Review

Executive Order 12866; Regulatory Planning and Review

Under Executive Order 12866 (58 FR 51735, October 4, 1993), this action is not a “significant regulatory action” and therefore is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely 1995 (Public Law 104-4).

Executive Order 13175 Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132 Federalism

This action also does not have Federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Clean Air Act.

Executive Order 13045 Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 19, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Nitrogen dioxide, Ozone, Reporting and recordkeeping requirements, Volatile organic compound.

Authority: 42 U.S.C. 7401 et seq.

Dated: May 11, 2005.
Norman Niedergang,
Acting Regional Administrator, Region 5.

Part 52, chapter I, title 40 of the Code of Federal Regulations is amended as follows:

PART 52—[AMENDED]

1. The authority citation for part 52 continues to read as follows:

Authority: 42 U.S.C. 7401 et seq.

Subpart X—Michigan

2. Section 52.1174 is amended by adding paragraph (v) to read as follows:

§ 52.1174 Control Strategy: Ozone.

* * * * *

(v) Approval—On December 19, 2003, Michigan submitted an update to the Section 175(A) maintenance plan for the Southeast Michigan 1-hour ozone maintenance area, which consists of Livingston, Macomb, Monroe, Oakland, St. Clair, Washtenaw, and Wayne counties. This update addresses the second 10-year period of maintenance of the ozone standard in Southeast Michigan, which spans the years 2005 through 2015. The maintenance plan also revises the Motor Vehicle Emissions Budget (MVEB). For the year 2005, the MVEB for VOC is 218.1 tons per day (tpd), and the MVEB for NOX is 412.9 tpd. For the year 2015, the MVEB for VOC is 172.8 tpd, and the MVEB for NOX is 412.9 tpd.

[FR Doc. 05-10150 Filed 5-19-05; 8:45 am]

BILLING CODE 6560-50-P